DEPARTMENT OF DEFENSE

Office of the Secretary

[Transmittal No. 17-20]

Arms Sales Notification

AGENCY: Defense Security Cooperation Agency, Department of Defense.

ACTION: Arms sales notice.

SUMMARY: The Department of Defense is publishing the unclassified text of an arms sales notification.

FOR FURTHER INFORMATION CONTACT: Pamela Young, (703) 697-9107, pamela.a.young14.civ@mail.mil or Kathy Valadez, (703) 697-9217, kathy.a.valadez.civ@mail.mil; DSCA/DSA-RAN.

SUPPLEMENTARY INFORMATION: This 36(b)(1) arms sales notification is published to fulfill the requirements of section 155 of Public Law 104-164 dated July 21, 1996. The following is a copy of a letter to the Speaker of the House of Representatives, Transmittal 17-20 with attached Policy Justification and Sensitivity of Technology.

Dated: March 22, 2018.
Shelly Finke,
Alternate OSD Federal Register Liaison Officer, Department of Defense.

BILLING CODE 5001-06-P

BILLING CODE 5001-06-C

Transmittal No. 17-20

Notice of Proposed Issuance of Letter of Offer Pursuant to Section 36(b)(1) of the Arms Export Control Act, as amended

(i) Prospective Purchaser: Government of the United Arab Emirates (UAE)

(ii) Total Estimated Value:

Major Defense Equipment * | $ 240.0 million
Other | $ 30.4 million
Total | $270.4 million

(iii) Description and Quantity or Quantities of Articles or Services under Consideration for Purchase:

Major Defense Equipment (MDE):

Three hundred (300) AIM-9X-2 Sidewinder Block II Missiles

Forty (40) AIM-9X-2 Sidewinder Captive Air Training Missiles (CATMs)

Thirty (30) AIM-9X-2 Sidewinder Block II Tactical Guidance Units

Fifteen (15) AIM-9X-2 CATM Guidance Units

Non-MDE includes:

Also includes containers, spares, support equipment and missile support, U.S. Government and contractor technical assistance and other related logistics support, and other associated support equipment and services.

(iv) Military Department: Navy (ABJ)

(v) Prior Related Cases, if any: AE-P-AAL (AIM-9M); and AE-P-ABA (AIM-9-X2 (previously notified and offered but the customer allowed the LOA to expire))

(vi) Sales Commission, Fee, etc., Paid, Offered, or Agreed to be Paid: None

(vii) Sensitivity of Technology Contained in the Defense Article or Defense Services Proposed to be Sold: See Attached Annex

(viii) Date Report Delivered to Congress: March 7, 2018

* As defined in Section 47(6) of the Arms Export Control Act.

POLICY JUSTIFICATION

Government of the United Arab Emirates (UAE)—AIM-9X-2 Sidewinder Block II Missiles

The UAE has requested the possible sale of three hundred (300) AIM-9X-2 Sidewinder Block II missiles, forty (40) AIM-9X-2 Sidewinder Captive Air Training Missiles (CATMs), thirty (30) AIM-9X-2 Block II Tactical guidance units, fifteen (15) AIM-9X-2 CATM guidance units, containers, spares, support equipment and missile support, U.S. Government and contractor technical assistance and other related logistics support, and other associated support equipment and services. The total estimated cost is $270.4 million.

This proposed sale will support the foreign policy and national security objectives of the United States by helping to improve the security of a friendly country which has been, and continues to be, an important force for political stability and economic progress in the Middle East.

This potential sale will improve the UAE's capability to meet current and future threats and provide an enhanced capability for its Air Force. The UAE will use the enhanced capability to strengthen its homeland defense. The UAE will have no difficulty absorbing this equipment into its armed forces.

The proposed sale of this equipment and support does not alter the basic military balance in the region.

The prime contractor will be Raytheon Missile Systems Company, Tucson, AZ. There are no known offset agreements proposed in connection with this potential sale.

Implementation of this proposed sale will require U.S. Government or contractor representatives to travel to the UAE on a temporary basis for program technical support and management oversight.

There will be no adverse impact on U.S. defense readiness as a result of this proposed sale.

Transmittal No. 17-20

Notice of Proposed Issuance of Letter of Offer Pursuant to Section 36(b)(1) of the Arms Export Control Act

Annex

Item No. vii

(vii) Sensitivity of Technology:

1. The AIM-9X-2 Sidewinder Block II missile represents a substantial increase in missile acquisition and kinematics performance over the AIM-9M and replaces the AIM-9X Block I missile configuration. The missile includes a high off-boresight seeker, enhanced countermeasure rejection capability, low drag/high angle of attack airframe and the ability to integrate the Helmet Mounted Cueing System. The software algorithms are the most sensitive portion of the AIM-9X-2 missile. The software continues to be modified via a Pre-Planned Product Improvement (P³I) program in order to improve its counter-countermeasure capabilities. No software source code or algorithms will be released. The missile is classified as CONFIDENTIAL.

2. The AIM-9X-2 Sidewinder Block II missile will result in the transfer of sensitive technology and information. The equipment, hardware, and documentation are classified CONFIDENTIAL. The software and operational performance are classified SECRET. The seeker/guidance control section and the target detector are CONFIDENTIAL and contain sensitive state-of-the-art technology. Manuals and technical documentation that are necessary or support operational use and organizational management are classified up to SECRET. Performance and operating logic of the counter-countermeasures circuits are classified SECRET. The hardware, software, and data identified are classified to protect vulnerabilities, design and performance parameters and similar critical information.

3. If a technologically advanced adversary were to obtain knowledge of the specific hardware and software elements, the information could be used to develop countermeasures that might reduce weapon system effectiveness or be used in the development of a system with similar advanced capabilities.

4. All defense articles and services listed in this transmittal have been authorized for release and export to the Government of the United Arab Emirates (UAE).

[FR Doc. 2018-06110 Filed 3-26-18; 8:45 am]

BILLING CODE 5001-06-P